FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 2, 2014.

A. Federal Reserve Bank of Atlanta (Chapelle Davis, Assistant Vice President) 1000 Peachtree Street NE., Atlanta, Georgia 30309:

1. James Lee Clayton and BF3, LP, both of Knoxville, Tennessee; to acquire voting shares of MidCountry Financial Corp, and thereby indirectly acquire voting shares of MidCountry Bank, both in Macon, Georgia.

2. Jayendrakumar J. (J.J.) Shah; Meena J. (M.J.) Shah; 455 Trust, M.J. Shah and K.J. Parikh, trustees; 475 Trust, J.J. Shah and Shveta S. Raju, trustees; Mahendrabala J. Parikh; Asha J. Shah; Eastern Horizons Properties, LP, and its managing general partner, Eastern Horizons Management, Inc.; GCMT 17, LLC; GCMT2, LLC; DVR Trust No. 1, M.J. Shah, trustee; DVR Trust No. 2, J.J. Shah, trustee; Dinesh V. Raju; and Shveta S. Raju, all of Duluth, Georgia; to retain, and acquire additional voting shares of Touchmark Bancshares, Inc., and thereby indirectly retain voting shares of Touchmark National Bank, both in Alpharetta, Georgia.

Board of Governors of the Federal Reserve System, August 13, 2014.
Michael J. Lewandowski,
Associate Secretary of the Board.

[FR Doc. 2014-19535 Filed 8-15-14; 8:45 am]

BILLING CODE 6210-01-P